Title 3—

The President

Proclamation 10930 of May 5, 2025

National Mental Health Awareness Month, 2025

By the President of the United States of America

A Proclamation

During National Mental Health Awareness Month, we recognize the millions of Americans affected by mental health challenges, and my Administration remains committed to prioritizing their well-being.

Mental illnesses can affect anyone, regardless of their background or circumstances. No person should have to face these challenges alone. Recognizing the signs, fostering open dialogue, and showing compassion are essential steps in addressing mental health challenges and supporting those who face them.

My Administration is confronting the mental health challenges facing our Nation as part of the efforts to improve the overall health and well-being of all Americans. The Make America Healthy Again Commission is addressing the root cause of our country's escalating health crisis and is committed to providing transparency and open-source data, conducting gold-standard research, along with improving access to nutritious food, and expanding treatment options to protect the health of every American.

We also remain committed to making sure every man and woman who served in uniform has access to the mental health care and suicide prevention resources they need. No one who has defended our country should struggle to get support when they need it most.

If you are struggling with your mental health, it is important to reach out to others and seek professionals for support. Together, we will build a stronger, healthier future for all.

NOW, THEREFORE, I, DONALD J. TRUMP, President of the United States of America, by virtue of the authority vested in me by the Constitution and the laws of the United States, do hereby proclaim May 2025 as National Mental Health Awareness Month. I call upon all Americans to support citizens suffering from mental illnesses, raise awareness of mental health conditions through appropriate programs and activities, and commit our Nation to innovative prevention, diagnosis, and treatment.

IN WITNESS WHEREOF, I have hereunto set my hand this fifth day of May, in the year of our Lord two thousand twenty-five, and of the Independence of the United States of America the two hundred and forty-ninth.

[FR Doc. 2025-08263

Filed 5-7-25; 11:15 am]

Billing code 3395-F4-P